AFRICAN DEVELOPMENT FOUNDATION

Board of Directors Meeting

MEETING: African Development Foundation, Board of Directors Meeting.

TIME: Tuesday, November 13, 2007, 10 a.m. to 12 p.m.

PLACE: African Development Foundation, Conference Room, 1400 I Street, NW., Suite 1000, Washington, DC 20005.

DATES: Tuesday, November 13, 2007.

STATUS: Closed session, November 13, 2007, 10 a.m. to 12 p.m.

As this meeting will be a closed, executive session, the meeting will not be open to the public. Should you have any questions, please contact Doris Martin, General Counsel, at (202) 673-3916 or mrivard@usadf.gov.

Lloyd O. Pierson,
President.

[FR Doc. 07-5628 Filed 11-7-07; 12:07 pm]

BILLING CODE 6117-01-M